DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the name of a person who has been removed from the Sectoral Sanctions Identification List (SSI List).

DATES: OFAC's action described in this notice took effect on May 6, 2024.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List (SDN List) and additional information concerning OFAC sanctions programs are available from OFAC's website at https://www.treasury.gov/ofac.

Notice of OFAC Actions

On May 6, 2024, OFAC removed from the Sectoral Sanctions Identification List the person listed below, who was subject to prohibitions imposed pursuant to Executive Order 13662 of March 20, 2014, “Blocking Property of Additional Persons Contributing to the Situation in Ukraine (79 FR 16169, March 24, 2014).

Entity

1. SBERBANK (SWITZERLAND) AG, Gartenstrasse 24, 8002 Zurich, Switzerland; PO Box 2136, Zurich 8027, Switzerland; Freigutstrasse 16, 8027 Zurich, Switzerland; SWIFT/BIC SLBZCHZZ; website www.slb-bank.ch; Executive Order 13662 Directive Determination—Subject to Directive 1; Secondary sanctions risk: Ukraine-/Russia-Related Sanctions Regulations, 31 CFR 589.201 and/or 589.209; Registration ID CH-020.3.908.277-7 (Switzerland); alt. Registration ID CHE-106.291.569 (Switzerland); For more information on directives, please visit the following link: https://www.treasury.gov/resource-center/sanctions/Programs/Pages/ukraine.aspx#directives. [UKRAINE-EO13662] (Linked To: PUBLIC JOINT STOCK COMPANY SBERBANK OF RUSSIA).

Dated: May 6, 2024.
Bradley T. Smith,
Director, Office of Foreign Assets Control, U.S. Department of the Treasury.

[FR Doc. 2024-10161 Filed 5-15-24; 8:45 am]

BILLING CODE 4810-AL-P